DEPARTMENT OF HOUSING AND URBAN DEVELOPMENT

[Docket No. FR-5130-N-07]

Privacy Act; Proposed New Systems of Records, Single Family Mortgage Notes System (SFMNS, A80N)

AGENCY: Office of the Chief Information Officer, HUD.

ACTION: Establish a new Privacy Act System of Records.

SUMMARY: HUD proposes to establish a new record system to add to its inventory of systems of records subject to the Privacy Act of 1974 (5 U.S.C. 552a), as amended. The proposed new system of record is the Single Family Mortgage Notes System (SFMNS), HUD/HS-57. The SFMN system is used to track the mortgagors' remittances and the system's disbursements for protecting HUD's interest in the mortgaged properties. The system contains information about billing, applications, monthly payments to tax escrows, and interest and principal data.

DATES: Effective Date: This action shall be effective without further notice on August 31, 2007 unless comments are received during or before this period that would result in a contrary determination.

Comments Due Date: August 31, 2007.

ADDRESSES: Interested persons are invited to submit comments regarding this notice to the Rules Docket Clerk, Office of General Counsel, Department of Housing and Urban Development, 451 Seventh Street, SW., Room 10276, Washington, DC 20410-0500. Communications should refer to the above docket number and title. A copy of each communication submitted will be available for public inspection and copying between 8 a.m. and 5 p.m. weekdays at the above address.

FOR FURTHER INFORMATION CONTACT: The Departmental Privacy Act Officer, 451 Seventh Street, SW., Room 4178, Washington, DC 20410, telephone number (202) 708-2374 or the System Owner, 451 Seventh Street, SW., Room 6232, Washington, DC 20410, telephone number (202) 402-3297. (These are not a toll-free numbers.) Telecommunication device for hearing and speech-impaired individuals (TTY) is available at (800) 877-8339 (Federal Information Relay Service).

SUPPLEMENTARY INFORMATION: Title 5 U.S.C. 552a(e)(4) and (11) provide that the public be afforded a 30-day period in which to comment on the new system of records, and require published notice of the existence and character of the system of records.

The new system report was submitted to the Office of Management and Budget (OMB), the Senate Committee on Homeland Security and Governmental Affairs, and the House Committee on Oversight and Government Reform pursuant to paragraph 4c of Appendix 1 to OMB Circular No. A-130, “Federal Responsibilities for Maintaining Records About Individuals,” July 25, 1994 (59 FR 37914).

Authority: 5 U.S.C. 552a, 88 Stat. 1896: 42 U.S.C. 3535(d) .

Dated: July 23, 2007.
Lisa Schlosser,
Chief Information Officer.

HUD/HS-57

System Name:

Single Family Mortgage Notes System (SFMNS) (A80N/NOTES).

System Location:

Charleston, West Virginia, and Tulsa, OK (Morris Griffin/First Madison Services).

Categories of individuals covered by the system:

Mortgagors (Secretary-Held Notes and Subordinate Mortgages).

Categories of records in the System:

Mortgagors' name, address, and social security number.

Authority for maintenance of the system:

Sec. 113 of the Budget and Accounting Act of 1950 31 U.S.C. 66a. (Pub. L. 81-784).

Purposes:

The information is used to track the mortgagors' remittances and the system's disbursements for protecting HUD's interest in the mortgaged properties. This information is used by HUD to report to the IRS.

Routine uses of records maintained in the system, including categories of users and the purposes of such uses:

In addition to those disclosures generally permitted under 5 U.S.C. 552a(b) of the Privacy Act, other routine uses are as follows:

(a) To the U.S. Treasury—for disbursements and adjustments; and

(b) To the Internal Revenue Service—for reporting payments for mortgage interest, for reporting of discharge indebtedness and real estate taxes.

Policies and practices for storing, retrieving, accessing, retaining, and disposing of records in the system:

Storage:

Electronic files are stored on disc and back up files are stored on tape. The original documents (hard copy) are stored in Tulsa, Oklahoma.

Retrievability:

Records may be retrieved by mortgagor name and/or social security number.

Safeguards:

Records are stored in locked cabinets in rooms to which access is limited to those personnel who service the records. Background screening, limited authorizations and access, with access limited to authorized personnel and technical restraints employed with regard to accessing the records; access to automated systems by authorized users by passwords.

Retention and disposal:

Are in accordance with HUD Records Disposition Schedule 2225.6, Appendix 20.

System manager(s) and address:

Director, Single Family Post Insurance Division (System Owner), Department of Housing and Urban Development, 451 Seventh Street, SW., Room 6232, Washington, DC 20410.

Notification procedure:

For information assistance, or inquiry about existence of records, contact the Privacy Act Officer, 451 Seventh Street SW., Room 4178, Washington, DC 20410, in accordance with the procedures in 24 CFR part 16.

Record access procedures:

The Department's rules for providing access to records to the individual concerned, appears in 24 CFR part 16. If additional information or assistance is required, contact the Privacy Act Officer at HUD, 451 Seventh Street, SW., Room 4178, Washington, DC 20410.

Contesting record procedures:

The procedures for requesting amendment or correction of records appear in 24 CFR part 16. If additional information is needed, contact:

(i) In relation to contesting contents of records, the Privacy Act Officer at HUD, 451 Seventh Street, SW., Room 4178, Washington, DC 20410; and,

(ii) In relation to appeals of initial denials, HUD, Departmental Privacy Appeals Officer, Office of General Counsel, 451 Seventh Street, SW., Washington, DC 20410.

Record source categories:

The original information was transferred from the A43C System; new records are established using the legal instruments (i.e., mortgage, deed, subordinate mortgage, etc.) received from the mortgagees.

Exemptions from certain provisions of the Act:

None.

[FR Doc. E7-14813 Filed 7-31-07; 8:45 am]

BILLING CODE 4210-67-P